DEPARTMENT OF ENERGY

Federal Energy Regulatory Commission

[Docket No. CP13-7-000]

Energy Corporation of America; Eastern American Energy Corporation; First ECA Midstream LLC; Notice of Application

Take notice that on October 16, 2012, Energy Corporation of America and Eastern American Energy Corporation (collectively, ECA), and First ECA Midstream LLC (First ECA Midstream), 501 56th Street SE., Charleston, West Virginia 25304, jointly filed in Docket No. CP13-2-000, an application requesting: (1) Authorization, pursuant to section 7(b) of the Natural Gas Act (NGA) and Part 157 of the Commission's regulations, to abandon the limited jurisdiction certificate issued to ECA on March 25, 2004 in Docket No. CP03-355-000; and (2) issuance, pursuant to section 7(c) of the NGA and Part 157 of the Commission's regulations, of a limited jurisdiction certificate to First ECA Midstream to allow it to continue operating certain gathering facilities located in West Virginia acquired by First ECA Midstream from ECA (Line 8000 System) in the same manner as ECA has operated the facilities, all as more fully set forth in the application which is on file with the Commission and open to public inspection.

The applicants explain that First ECA Midstream has acquired the Line 8000 System from ECA. ECA's limited jurisdiction certificate allowed gas volumes to be received into the Line 8000 System from Columbia Gas Transmission, LLC (Columbia) in order to provide service to the extent local production gathered by the system became insufficient to meet customers' needs. The applicants state that First ECA, as the new owner and operator of the Line 8000 System, requires a limited jurisdiction certificate for the same purpose, and they request an order on or before December 1, 2012 to enable First ECA Midstream to receive gas from Columbia if necessary during the winter season.

Any questions regarding this application should be directed to: Donald C. Supcoe, Energy Corporation of America, 501 56th Street SE., Charleston, WV 25304, or phone (304) 925-6100, or email DSupcoe@energycorporationofamerica.com; and Randall S. Rich, Pierce Atwood LLP, 900 17th Street NW., Suite 350, Washington, DC 20006, or phone (202) 470-6424, or email rrich@pierceatwood.com.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 7 copies of the protest or intervention to the Federal Energy Regulatory Commission, 888 First Street NE., Washington, DC 20426. This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: November 2, 2012.

Dated: October 19, 2012.
Kimberly D. Bose,
Secretary.

[FR Doc. 2012-26444 Filed 10-26-12; 8:45 am]

BILLING CODE 6717-01-P